DEPARTMENT OF COMMERCE

International Trade Administration

A-428-841

Notice of Final Determination of Sales at Less Than Fair Value: Sodium Nitrite from the Federal Republic of Germany

AGENCY: Import Administration, International Trade Administration, Department of Commerce.

SUMMARY: The U.S. Department of Commerce (the Department) determines that imports of sodium nitrite from the Federal Republic of Germany (Germany) are being, or are likely to be, sold in the United States at less than fair value (LTFV), as provided in section 735 of the Tariff Act of 1930, as amended (the Act). The final weighted-average dumping margins are listed below in the section entitled “Final Determination of Investigation.”

EFFECTIVE DATE: July 8, 2008.

FOR FURTHER INFORMATION CONTACT: Brian C. Smith or Gemal Brangman, AD/CVD Operations, Office 2, Import Administration, International Trade Administration, U.S. Department of Commerce, 14th Street and Constitution Avenue, NW, Washington, DC 20230; telephone: (202) 482 1766 or (202) 482 3773, respectively.

SUPPLEMENTARY INFORMATION:

Background

On April 23, 2008, the Department published the preliminary determination of sales at LTFV in the antidumping investigation of sodium nitrite from Germany. See Notice of Preliminary Determination of Sales at Less Than Fair Value: Sodium Nitrite from the Federal Republic of Germany, 73 FR 21909 (April 23, 2008) (Preliminary Determination). We invited parties to comment on the Preliminary Determination. We received case briefs from the petitioner, General Chemical LLC, and the respondent, BASF AG (BASF), on May 23, 2008. The petitioner submitted a rebuttal brief on May 28, 2008. No party requested a hearing.

Analysis of Comments Received

All issues raised in the case and rebuttal briefs by parties to this antidumping investigation are addressed in the “Issues and Decision Memorandum for the Final Determination in the Less-Than-Fair-Value Investigation of Sodium Nitrite from the Federal Republic of Germany” (Decision Memorandum) from Stephen J. Claeys, Deputy Assistant Secretary for Import Administration, dated June 30, 2008, which is hereby adopted by this notice. A list of the issues which parties have raised and to which we have responded is attached to this notice as an appendix. Parties can find a complete discussion of all issues raised in this investigation and the corresponding recommendations in the Decision Memorandum, which is on file in the Central Records Unit, room 1117, of the main Department Building. In addition, a complete version of the Decision Memorandum can be accessed directly on the Web at http://ia.ita.doc.gov/frn. The paper copy and electronic version of the Decision Memorandum are identical in content.

Period of Investigation

The period of investigation is October 1, 2006, through September 30, 2007.

Scope of the Investigation

The merchandise covered by this investigation is sodium nitrite in any form, at any purity level. In addition, the sodium nitrite covered by this investigation may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0.

While the HTSUS subheading, CAS registry number, and CAS name are provided for convenience and customs purposes, the written description of the scope of this investigation is dispositive.

Adverse Facts Available

For the final determination, we continue to find that, by failing to respond to the antidumping duty questionnaire, BASF, the sole mandatory respondent in this investigation, did not act to the best of its ability in this investigation. Therefore, the use of adverse facts available (AFA) is warranted for this company under sections 776(a)(2) and (b) of the Act. See Preliminary Determination, 73 FR at 21909-21910. As we explained in the Preliminary Determination, we selected as the AFA rate the highest margin alleged in the petition, 237.00 percent, as referenced in the notice of initiation. See Sodium Nitrite from the Federal Republic of Germany and the People's Republic of China: Initiation of Antidumping Duty Investigations, 73 FR 68563, 68567 (December 5, 2007). Further, as discussed in the Preliminary Determination, we corroborated the AFA rate pursuant to section 776(c) of the Act. See Preliminary Determination, 73 FR at 21910-21912, and Comment 1 of the Decision Memorandum accompanying this notice for further discussion.

All-Others Rate

For the final determination, we have continued to assign as the all-others rate the simple average of the margins in the petition in accordance with the Department's current practice. See Preliminary Determination, 73 FR at 21912, and Comment 2 of the Decision Memorandum accompanying this notice for further discussion.

Final Determination of Investigation

We determine that the following weighted-average dumping margins exist for the period October 1, 2006, through September 30, 2007:

Manufacturer/exporter | Margin (percent)
BASF AG | 237.00
All Others | 150.82

Continuation of Suspension of Liquidation

Pursuant to section 735(c)(1)(B) of the Act, we will instruct U.S. Customs and Border Protection (CBP) to continue to suspend liquidation of all entries of subject merchandise from Germany, entered, or withdrawn from warehouse, for consumption on or after April 23, 2008, the date of publication of the Preliminary Determination. We will instruct CBP to require a cash deposit or the posting of a bond equal to the weighted-average dumping margins, as indicated in the chart above, as follows: (1) the rate for the firm listed above will be the rate we have determined in this final determination; (2) if the exporter is not a firm identified in this investigation, but the producer is, the rate will be the rate established for the producer of the subject merchandise; (3) the rate for all other producers or exporters will be 150.82 percent.¹ These suspension-of-liquidation instructions will remain in effect until further notice.

¹ This rate was incorrectly stated as 237.00 percent in the “Suspension of Liquidation” section of the Preliminary Determination. See Preliminary Determination, 73 FR at 21912.

International Trade Commission Notification

In accordance with section 735(d) of the Act, we have notified the International Trade Commission (ITC) of our final determination. As our final determination is affirmative and in accordance with section 735(b)(2) of the Act, the ITC will determine, within 45 days, whether the domestic industry in the United States is materially injured, or threatened with material injury, by reason of imports or sales (or the likelihood of sales) for importation of the subject merchandise. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: June 30, 2008.
David M. Spooner,
Assistant Secretary for Import Administration.

Appendix—Issues in Decision Memorandum

Comments

Issue 1: Selection of the Adverse Facts Available Rate for BASF

Issue 2: Selection of the All-Others Rate

[FR Doc. E8-15458 Filed 7-7-08; 8:45 am]

BILLING CODE 3510-DS-S